DEPARTMENT OF COMMERCE

National Oceanic and Atmospheric Administration

Correction; Steller Sea Lion Protection Economic Survey

ACTION: Notice.

The National Oceanic and Atmospheric Administration, National Marine Fisheries Service is issuing a correction and clarification of a Federal Register notice (71 FR 47177) announcing plans to conduct a survey regarding public preferences for potential results of protection measures on Steller sea lion populations. The following Abstract replaces the one in the aforementioned notice:

I. Abstract

The Steller sea lion is a listed species under the Endangered Species Act of 1973 (16 U.S.C. 35). The public benefits associated with the results of protection actions on the endangered Western and threatened Eastern stocks of Steller sea lions (Eumetopias jubatus), such as population increases, are primarily the result of the non-consumptive value people attribute to such protection (e.g., active use values associated with being able to view Steller sea lions and passive use values unrelated to direct human use). Little is known about these values, yet such information is needed for decision makers to more fully understand the trade-offs involved in choosing among protection alternatives and to complement other information available about the costs, benefits, and impacts of the protection alternatives.

The National Marine Fisheries Service (NMFS) plans to conduct a survey of U.S. citizens, presenting information on Steller sea lions, including information about population trends and current management actions and asking respondents for information regarding their knowledge of and opinions regarding: Steller sea lions, other marine mammals and endangered species, and potential Steller sea lion population increases and changes in listing status that might result from management. The standard socio-demographic information needed to classify respondents will also be collected. The survey will gather a sufficient number of responses to estimate the non-consumptive benefits associated with the results of protection actions on Steller sea lions. This information is currently unavailable, and would be used by analysts to supplement existing information available for the evaluation of Steller sea lion protection alternatives.”

FOR FURTHER INFORMATION CONTACT: Requests for additional information should be directed to Dr. Dan Lew, National Marine Fisheries Service, Alaska Fisheries Science Center, 7600 Sand Point Way, NE., Seattle, WA 98115; Telephone: (206) 526-4252; Fax: (206) 526-6723; e-mail: dan.lew@noaa.gov.

Dated: September 11, 2006.
Gwellnar Banks,
Management Analyst, Office of the Chief Information Officer.

[FR Doc. E6-15305 Filed 9-14-06; 8:45 am]

BILLING CODE 3510-22-P